SECURITIES AND EXCHANGE COMMISSION

[File No. 500-1]

In the Matter of: Birman Managed Care, Inc. (n/k/a Alcar Chemical Group, Inc.), Cluster Technology Corp., Consolidated Growers and Processors, Inc., Global Network, Inc., Micro-Integration Corp., Monsoon International Manufacturing & Distribution, Inc., Montt International Corp., Pony Express U. S. A., Inc., SUMmedia.com, Inc., and Sunflower USA, Ltd.; Order of Suspension of Trading

August 20, 2008

It appears to the Securities and Exchange Commission that there is a lack of current and accurate information concerning the securities of Birman Managed Care, Inc. (n/k/a Alcar Chemical Group, Inc.) because it has not filed any periodic reports since the period ended March 31, 2000.

It appears to the Securities and Exchange Commission that there is a lack of current and accurate information concerning the securities of Cluster Technology Corp. because it has not filed any periodic reports since March 8, 2000.

It appears to the Securities and Exchange Commission that there is a lack of current and accurate information concerning the securities of Consolidated Growers and Processors, Inc. because it has not filed any periodic reports since January 5, 2000.

It appears to the Securities and Exchange Commission that there is a lack of current and accurate information concerning the securities of Global Network, Inc. because it has not filed any periodic reports since the period ended September 30, 2003.

It appears to the Securities and Exchange Commission that there is a lack of current and accurate information concerning the securities of Micro-Integration Corp. because it has not filed any periodic reports since December 31, 1999.

It appears to the Securities and Exchange Commission that there is a lack of current and accurate information concerning the securities of Monsoon International Manufacturing & Distribution, Inc. because it has not filed any periodic reports since the period ended January 21, 2000.

It appears to the Securities and Exchange Commission that there is a lack of current and accurate information concerning the securities of Montt International Corp. because it has not filed any periodic reports since February 14, 2000.

It appears to the Securities and Exchange Commission that there is a lack of current and accurate information concerning the securities of Pony Express U. S. A., Inc. because it has not filed any periodic reports since the period ended September 30, 2004.

It appears to the Securities and Exchange Commission that there is a lack of current and accurate information concerning the securities of SUMmedia.com, Inc. because it has not filed any periodic reports since the period ended September 30, 2002.

It appears to the Securities and Exchange Commission that there is a lack of current and accurate information concerning the securities of Sunflower USA, Ltd. because it has not filed any periodic reports since the period ended February 29, 2000.

The Commission is of the opinion that the public interest and the protection of investors require a suspension of trading in the securities of the above-listed companies.

Therefore, it is ordered, pursuant to section 12(k) of the Securities Exchange Act of 1934, that trading in the securities of the above-listed companies is suspended for the period from 9:30 a.m. EDT on August 20, 2008, through 11:59 p.m. EDT on September 3, 2008.

By the Commission.
Jill M. Peterson,
Assistant Secretary.

[FR Doc. E8-19634 Filed 8-20-08; 4:15 pm]

BILLING CODE 8010-01-P